FEDERAL COMMUNICATIONS COMMISSION

Notice of Public Information Collection(s) Being Submitted to OMB for Review and Approval

August 27, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 4, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0706.

Title: Cable Act Reform.

Form Number: N/A.

Type of Review: Extension of a currently approved collection.

Respondents: Business or other for-profit entities.

Number of Respondents: 950.

Estimated Time per Response: 1 to 8 hours.

Frequency of Response: On occasion reporting requirements; Third party disclosure.

Total Annual Burden: 3,900 hours.

Total Annual Costs: None.

Needs and Uses: On March 29, 1999, the FCC released a Report and Order (R&O), FCC 99-57, which further amended the Commission's cable television rules pursuant to the Telecommunications Act of 1996. This R&O accounted for various requirements in FCC rules not already accounted for in the initial and final rules. The regulations serve a variety of purposes for subscribers, cable operators, franchising authorities, and the FCC, i.e., 47 CFR section 76.952 requires cable operators to include the local franchising authority LFA) contact information in a subscriber's monthly billing statements; 47 CFR section 76.990 requires a cable operator to certify in writing to the LFA that it qualifies as a “small cable operator;” and 47 CFR 76.1404 requires a local exchange carrier to file contract information with the FCC to determine whether its use of a cable operator's facilities is reasonably limited in scope and duration.

OMB Control Number: 3060-0139.

Title: Application for Antenna Structure Registration.

Form Number(s): FCC 854 and FCC 854R.

Type of Review: Revision of a currently approved collection.

Respondents: Business or other for-profit entities; Individuals or households; Not-for-profit institutions; and State, Local, or Tribal Government.

Number of Respondents: 4,500.

Estimated Time per Response: 0.5 to 1.0 hours.

Frequency of Response: Recordkeeping; On occasion reporting requirements; Third party disclosure.

Total Annual Burden: 6,750 hours.

Total Annual Costs: $182,880.

Needs and Uses: Owners of wire or radio communications towers with antenna structures use FCC Form 854 to register their structures within the United States, to notify the FCC when a structure has been built, to make changes to an existing registered structure, or to notify the FCC when a structure is dismantled. 47 CFR part 17 and sections 303(q) and 503(b)(5) of the Communications Act, as amended, authorize the FCC to require the painting and/or illumination of radio towers where there is a reasonable possibility that the antenna structure may cause a hazard to air navigation. The FCC sends antenna structure owner the FCC Form 854R to verify that the owner's registration has been completed. The antenna owner must provide a copy of FCC Form 854R to each tenant of the antenna structure.

Federal Communications Commission.
Marlene H. Dortch,
Secretary.

[FR Doc. 02-22506 Filed 9-3-02; 8:45 am]

BILLING CODE 6712-01-P